DEPARTMENT OF STATE

[Public Notice 8963]

Determination by the Secretary of State Relating to Iran Sanctions

SUMMARY: This notice is to inform the public that the Secretary of State determined on November 20, 2014, pursuant to Section 1245(d)(4)(D) of the National Defense Authorization Act for Fiscal Year 2012 (NDAA) (Pub. L. 112-81), as amended, that as of November 20, 2014, each of the following purchasers of oil from Iran has qualified for the 180-day exception outlined in section 1245(d)(4)(D): Malaysia, Singapore, and South Africa. The Secretary of State last made exception determinations under Section 1245(d)(4)(D) of the NDAA regarding these purchasers on May 27, 2014.

Dated: November 28, 2014.
Robert F. Ichord,
Deputy Assistant Secretary, Bureau of Energy Resources, U.S. Department of State.

[FR Doc. 2014-28520 Filed 12-3-14; 8:45 am]

BILLING CODE 4710-09-P